DEPARTMENT OF COMMERCE

International Trade Administration

University of California, Berkeley; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 03-019.

Applicant: University of California—Berkeley, Berkeley, CA 94720-2020.

Instrument: Fiber Optical Coherence Tomography Apparatus.

Manufacturer: Institute of Applied Physics RAS, Russia.

Intended Use: See notice at 68 FR 23979, May 6, 2003.

Comments: None received.

Decision: Approved. No instrument of equivalent scientific value to the foreign instrument, for such purposes as it is intended to be used, is being manufactured in the United States.

Reasons: The foreign instrument provides suitability for studying the smaller eyes of animal rather than human subjects by allowing (1) use of a stereotaxic apparatus for head stabilization, (2) higher in-depth and transverse resolutions and (3) the option of sequential sampling. The National Institutes of Health advises in its memorandum of April 28, 2003 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-14778 Filed 6-10-03; 8:45 am]

BILLING CODE 3510-DS-P